DEPARTMENT OF THE INTERIOR

National Park Service

Temporary Concession Contract for Great Sand Dunes National Park and Preserve, CO

AGENCY: National Park Service, Department of the Interior.

ACTION: Notice of proposed award of temporary concession contract (TC-GRSA003-07) for the Sale of Firewood and Incidental Visitor Items within Great Sand Dunes National Park and Preserve, CO.

SUMMARY: Pursuant to 36 CFR 51.24, public notice is hereby given that the National Park Service proposes to award a temporary concession contract for the sale of firewood and incidental visitor items within Great Sand Dunes National Park and Preserve, Colorado, for a term not to exceed 2 years and 8 months, from May 1, 2007 through December 31, 2009. This action is necessary to avoid an interruption of visitor services.

DATES: The term of the temporary concession contract (TC-GRSA003-07) will be effective (if awarded) May 1, 2007 through December 31, 2009, which is the date of termination of the existing concession contract, CC-GRSA003-07.

SUPPLEMENTARY INFORMATION: The temporary concession contract is proposed to be awarded to Cary and Geraldine Spannagel, who operate as Bristle Cone Pine Company, Inc., and are qualified persons pursuant to 36 CFR 51.3. Following termination of the prior concession contract (CC-GRSA003-07) within Great Sand Dunes National Park and Preserve in March 2007, the National Park Service proposes to award a temporary concession contract to Cary and Geraldine Spannagel, who operate as Bristle Cone Pine Company, Inc., to be effective May 1, 2007 through December 31, 2009, or a term of 2 years and 8 months. A new concession contract cannot be awarded in time to avoid the interruption of visitor services during the 2007-2009 operation seasons. The National Park Service has determined that a temporary contract is necessary to avoid interruption of visitor services and has taken all reasonable and appropriate steps to consider alternatives to avoid an interruption of visitor services.

This action is issued pursuant to 36 CFR 51.24(a). This is not a request for proposals and no prospectus is being issued at this time.

Dated: May 14, 2007.
Daniel N. Wenk,
Deputy Director, Operations.

[FR Doc. 07-3449 Filed 7-13-07; 8:45 am]

BILLING CODE 4312-53-M